DEPARTMENT OF DEFENSE

Department of the Navy

Privacy Act of 1974; System of Records

AGENCY: Department of the Navy, DoD.

ACTION: Notice to amend record system.

SUMMARY: The Department of the Navy proposes to amend six systems of records notices in its inventory of record systems subject to the Privacy Act of 1974 (5 U.S.C. 552a), as amended.

DATES: The amendments will be effective on March 9, 2000, unless comments are received that would result in a contrary determination.

ADDRESSES: Send comments to the Department of the Navy, PA/FOIA Policy Branch, Chief of Naval Operations (N09B30), 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The Department of the Navy proposes to amend six systems of records notices in its inventory of record systems subject to the Privacy Act of 1974 (5 U.S.C. 552a), as amended. The changes to the systems of records are not within the purview of subsection (r) of the Privacy Act of 1974 (5 U.S.C. 552a), as amended, which requires the submission of new or altered systems reports. The records systems being amended are set forth below, as amended, published in their entirety.

Dated: February 2, 2000.
L.M. Bynum,
Alternate OSD Federal Register Liaison Officer, Department of Defense.

N01070-1

System name:

JAG Corps Officer Personnel Information (February 22, 1993, 58 FR 10694).

Changes:

* * * * *

System location:

Delete entry and replace with ‘Office of the Judge Advocate General (Code 61), Department of the Navy, Washington Navy Yard, 1322 Patterson Avenue SE, Suite 3000, Washington, DC 20374-5066.’

* * * * *

Routine uses of records maintained in the system, including categories of users and the purposes of such uses:

In paragraph 2, delete ‘a semi-annual’ and replace with ‘an annual’.

* * * * *

N01070-1

System name:

JAG Corps Officer Personnel Information.

System location:

Office of the Judge Advocate General (Code 61), Department of the Navy, Washington Navy Yard, 1322 Patterson Avenue SE, Suite 3000, Washington, DC 20374-5066.

Categories of individuals covered by the system:

Active Duty Officers in the Judge Advocate General's Corps, Law Education and Excess Leave Programs.

Categories of records in the system:

Name, grade, designator, date of birth, Social Security Number, date of rank, pay entry base data, active duty service date, active commission base date, year and month of graduation from Naval Justice School, service date, lineal number, year group, current billet, future billets that are finalized, sub-specialty code, number of primary and secondary dependents, spouse's name, projected loss date and reason for loss, projected rotation date, law school and year of graduation from law school, state bar membership and year admitted, officer's preference for duty assignment and postgraduate education.

Authority for maintenance of the system:

10 U.S.C. 806 and E.O. 9397 (SSN).

Purpose(s):

To manage the officers of the Navy JAG Corps, as the Judge Advocate General is statutorily required to make recommendation on the assignment of all active duty JAG Corps officers; to determine qualifications of an officer to receive a JAG Corps designation and to be certified as a trial or defense counsel; to determine the rotation dates and release from active duty dates of JAG Corps officers as well as the date new officers will be available for duty; to prepare JAG Corps strength plans for submission to OPNAV; and to obtain an officer's preference for duty assignment as well as eligibility for consideration for postgraduate education and overseas assignments. Certain information is promulgated to all active duty JAG Corps officers in a semi-annual publication known as the Directory of Navy Judge Advocates. The information is promulgated in the directory for general informational purposes within the JAG Corps, including provision of position (billet) availability information to officers contemplating rotation.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Certain information (not including Social Security Number and date of birth) is promulgated to active-duty JAG Corps officers in an annual publication known as the Directory of Navy Judge Advocates. The information is promulgated for general informational purposes within the JAG Corps, including provision of position (billet) availability information to officers contemplating rotation and as a social roster for official and nonofficial functions.

The ‘Blanket Routine Uses’ that appear at the beginning of the Navy's compilation of systems of records notices also apply to this system.

Policies and practices for storing, retrieving, accessing, retaining, and disposing of records in the system:

Storage:

Data is maintained on personal computers and paper records filed in file folders in storage devices.

Retrievability:

Name.

Safeguards:

Data is maintained on personal computers and paper records filed in file folders in storage devices.

Retention and disposal:

Upon release from active duty, records are kept three years and then destroyed. Upon retirement from active duty, records are maintained indefinitely.

System manager(s) and address:

Deputy Assistant Judge Advocate General (Code 61), Office of the Judge Advocate General, Department of the Navy, Washington Navy Yard, 1322 Patterson Avenue SE, Suite 3000, Washington, DC 20374-5066.

Notification procedure:

Individuals seeking to determine whether this system of records contains information about themselves should address written inquiries to the Deputy Assistant Judge Advocate General (Code 61), Department of the Navy, Washington Navy Yard, 1322 Patterson Avenue SE, Suite 3000, Washington, DC 20374-5066.

Written requests must be signed by the requesting individual. For personal visits, the requesting individual should be able to provide some acceptable identification, e.g. Armed Forces identification card, driver's license, etc.

Record access procedures:

Individuals seeking access to records about themselves contained in this system of records should address written inquiries to the Deputy Assistant Judge Advocate General (Code 61), Department of the Navy, Washington Navy Yard, 1322 Patterson Avenue SE, Suite 3000, Washington, DC 20374-5066. Personnel visits may be made to the JAG Personnel Office, Washington Navy Yard, 1322 Patterson Avenue SE, Suite 3000, Washington, DC 20374-5066.

Contesting record procedures:

The Navy's rules for accessing records and contesting contents and appealing initial agency determinations are published in Secretary of the Navy Instruction 5211.5; 32 CFR part 701; or may be obtained from the system manager.

Record source categories:

Individual; orders to active duty and subsequent transfer orders; and computer strips provided by the Navy Personnel Command on all active duty officers.

Exemptions claimed for the system:

None.

N01301-2

System name:

Naval Officer Development and Distribution Support System (February 22, 1993, 58 FR 10712).

Changes:

* * * * *

System name:

Delete entry and replace with ‘On-Line Distribution Information System (ODIS).’

* * * * *

Categories of individuals covered by the system:

Delete entry and replace with ‘All Navy personnel on active duty including reservists on active duty more than 60 days.’

Categories of records in the system:

Delete entry and replace with ‘Personnel records in automated form concerning qualifications, assignment, placement, career development, education, training, recall, release from active duty, advancement, performance, retention, reenlistment, separation, morale, personal affairs, benefits, entitlements, and administration.’

* * * * *

N01301-2

System name:

On-Line Distribution Information System (ODIS).

System location:

Navy Personnel Command, 5720 Integrity Drive, Millington, TN 38055-8340.

Categories of individuals covered by the system:

All Navy personnel on active duty including reservists on active duty more than 60 days.

Categories of records in the system:

Personnel records in automated form concerning qualifications, assignment, placement, career development, education, training, recall, release from active duty, advancement, performance, retention, reenlistment, separation, morale, personal affairs, benefits, entitlements, and administration.

Authority for maintenance of the system:

5 U.S.C. 301, Departmental Regulations; 10 U.S.C. 5504, Lineal List; 10 U.S.C. 5708, Promotion Selection List; and E.O. 9397 (SSN).

Purpose(s):

To assist Navy officials and employees in the classification, qualification determinations, assignment, placement, career development, education, training, recall and release of officer personnel pursuant to meet manpower allocations and requirements.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the Navy's compilation of systems of records notices apply to this system.

Policies and practices for storing, retrieving, accessing, retaining, and disposing of records in the system:

Storage:

Automated records may be stored on magnetic tapes, disc, or drums. Manual records may be stored in paper file folders, microfiche, or microfilm.

Retrievability:

Records may be retrieved by Social Security Number and/or name.

Safeguards:

Computer terminals are located in restricted areas accessible only to authorized persons that are properly screened, cleared and trained. Manual records and computer printouts are available only to authorized personnel having an official need-to-know.

Retention and disposal:

Records are generally maintained until superseded, or for a period of two years or until release from active duty and disposed of by burning or shredding.

System manager(s) and address:

Commander, Navy Personnel Command (Pers-06), 5720 Integrity Drive, Millington, TN 38055-0600.

Notification procedure:

Individuals seeking to determine whether information about themselves is contained in this system should address written inquiries to the Commander, Navy Personnel Command (Pers-06), 5720 Integrity Drive, Millington, TN 38055-0600.

The letter should contain full name, rank, Social Security Number, designator, address and signature. The individual may visit the Navy Personnel Command (Pers-06), 5720 Integrity Drive, Millington, TN 38055-0600. Advance notification is required for personal visits. Proof identification will consist of military identification card.

Record access procedures:

Individuals seeking access to information about themselves contained in this system should address written inquiries to the Commander, Navy Personnel Command (Pers-06), 5720 Integrity Drive, Millington, TN 38055-0600.

The letter should contain full name, rank, Social Security Number, designator, address and signature. The individual may visit the Commander, Navy Personnel Command (Pers-06), 5720 Integrity Drive, Millington, TN 38055-0600. Advance notification is required for personal visits. Proof of identification will consist of military identification card.

Contesting record procedures:

The Navy's rules for accessing records, and for contesting contents and appealing initial agency determinations are published in Secretary of the Navy Instruction 5211.5; 32 CFR part 701; or may be obtained from the system manager.

Record source categories:

Personnel Service Jackets; records of the officer promotion system; officials and employees of the Department of the Navy, Department of Defense, and components thereof, in performance of their official duties and as specified by current instructions and regulations promulgated by competent authority; education institutions; official records of professional qualifications; general correspondence concerning the individual.

Exemptions claimed for the system:

None.

N01306-1

System name:

Enlisted Development and Distribution Support System (February 22, 1993, 58 FR 10713).

Changes:

* * * * *

System name:

Delete entry and replace with ‘Job Advertisement and Selection System (JASS).’

System location:

Delete entry and replace with ‘Navy Personnel Command, 5720 Integrity Drive, Millington, TN 38055-0600.’

* * * * *

Categories of records in the system:

Delete entry and replace with ‘Limited personnel records in automated form displaying basic qualifications. This system primarily displays a listing of available billets from which a sailor can request through their career counselor.’

* * * * *

Purpose(s):

Delete entry and replace with ‘To allow active Navy personnel to participate in the selection of their next assignment.’

* * * * *

Retrievability:

Delete entry and replace with ‘Social Security Number’.

* * * * *

N01306-1

System name:

Job Advertisement and Selection System (JASS).

System location:

Navy Personnel Command, 5720 Integrity Drive, Millington, TN 38055-0600.

Categories of individuals covered by the system:

All Navy enlisted personnel: active, inactive, reserve, fleet reserve, and retired.

Categories of records in the system:

Limited personnel records in automated form displaying basic qualifications. This system primarily displays a listing of available billets from which a sailor can request through their career counselor.

Authority for maintenance of the system:

5 U.S.C. 301, Departmental Regulations; 10 U.S.C. 5013, Secretary of the Navy; and E.O. 9397 (SSN).

Purpose(s):

To assist Navy officials and employees in the initiation, development, implementation of policies pertaining to enlisted personnel assignment, placement, retention, career enhancement, and motivation, and other career related matters, in order to meet manpower allocations and requirements.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the Navy's compilation of system of record notices apply to this system.

Policies and practices for storing, retrieving, accessing, retaining, and disposing of records in the system:

Storage:

Automated records may be stored on magnetic tapes, disc, and drums. Manual records may be stored in paper file folders, microfiche, or microfilm.

Retrievability:

Social Security Number.

Safeguards:

Computer processing facilities and terminals are located in restricted areas accessible only to authorized persons that are properly screened, cleared, and trained. Manual records and computer printouts are available only to authorized personnel having a need-to-know.

Retention and disposal:

Records are generally maintained until superseded or for a period of two years and then disposed of by burning or shredding.

System manager(s) and address:

Commander, Navy Personnel Command (Pers-06), 5720 Integrity Drive, Millington, TN 38055-0600.

Notification procedure:

Individuals seeking to determine whether this system of records contains information about themselves should address written inquiries to the Commander, Navy Personnel Command (Pers-06), 5720 Integrity Drive, Millington, TN 38055-0600.

The letter should contain full name, Social Security Number (and/or enlisted service number), rate, military status, and signature of the requester.

Record access procedures:

Individuals seeking access to records about themselves contained in this system of records should address written inquiries to the Commander, Navy Personnel Command (Pers-06), 5720 Integrity Drive, Millington, TN 38055-0600.

The letter should contain full name, Social Security Number (and/or enlisted service number), rate, military status, and signature of the requester.

Contesting record procedures:

The Navy's rules for accessing records, and for contesting contents and appealing initial agency determinations are published in Secretary of the Navy Instruction 5211.5; 32 CFR part 701; or may be obtained from the system manager.

Record source categories:

Personnel service jackets, correspondence, official records of professional qualifications, and educational institutions.

Exemptions claimed for the system:

None.

N03760-1

System name:

Naval Flight Record Subsystem (NAVFLIRS) (February 22, 1993, 58 FR 10732).

Changes:

* * * * *

Safeguards:

Delete entry and replace with ‘Automated records are password protected and access limited to personnel with an official need to know.’

Retention and disposal:

Delete entry and replace with ‘Permanent data base maintained by the Naval Air Systems Command.’

System manager(s) and address:

Delete entry and replace with ‘Commander, Naval Air Systems Command (AIR 3.6.2.3), 47056 Mcleod Road, Building 447, Patuxent River, MD 20670-1626.’

* * * * *

Record source categories:

Add to entry ‘and enlisted aircrew members.’

* * * * *

N03760-1

System name:

Naval Flight Record Subsystem (NAVFLIRS).

System location:

Primary data base is maintained at the Naval Air Systems Command (Code AIR 3.6.2.3), 47056 Mcleod Road, Building 447, Patuxent River, MD 20670-21626.

Secondary data base is maintained at the Naval Safety Center, 375 A Street, Norfolk, VA 23511-4399.

Local data bases are maintained at Navy and Marine Corps aviation activities.

Categories of individuals covered by the system:

All aeronautically designated commissioned Navy and Marine Corps Officers and enlisted members assigned as aircrew members in the operation of an aircraft in accordance with the direction of competent authority.

Categories of records in the system:

Reports of each flight submitted to the custodian of the aircraft. Records contain personal identification (name, rank, Social Security Number), and specific technical data related to the flight of naval aircraft.

Authority for maintenance of the system:

5 U.S.C. 301, Departmental Regulations and E.O. 9397 (SSN).

Purpose(s):

Naval Flight Record Subsystem consolidates the collection of naval flight data into a single, locally controlled collection and correction system, and implements a standard data collection source document (the Naval Flight Record OPNAV 3710/4) throughout the Navy and Marine Corps. It further establishes a single control data base containing all naval flight data.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the Navy's compilation of systems of records notices apply to this system.

Policies and practices for storing, retrieving, accessing, retaining, and disposing of records in the system:

Storage:

Automated records.

Retrievability:

Individual records are primarily retrieved by a unique document number assigned to each naval flight record. Additionally, each of the data elements such as pilots' Social Security Number, model aircraft and squadron may be used to retrieve individual records.

Safeguards:

Automated records are password protected and access limited to personnel with an official need to know.

Retention and disposal:

Primary and secondary data base at the Naval Safety Center are permanent. Records in the secondary data base at Headquarters, U.S. Marine Corps are erased from tape when the individual is removed from active flight status. Local data bases purge all magnetic tape records after six months.

System manager(s) and address:

Commander, Naval Air Systems Command (AIR 3.6.2.3), 47056 Mcleod Road, Building 447, Patuxent River, MD 20670-1626.

Notification procedure:

Individuals seeking to determine whether information about themselves is contained in this system should address written inquiries to the Commander, Naval Air Systems Command (AIR 3.6.2.3), 47056 Mcleod Road, Building 447, Patuxent River, MD 20670-1626.

The request should contain full name, Social Security Number, squadron assigned, and address of the individual concerned and should be signed. Personal visitors will be required to produce military or comparable civilian identification cards.

Record access procedures:

Individuals seeking access to information about themselves contained in this system should address written inquiries to the Commander, Naval Air Systems Command (AIR 3.6.2.3), 47056 Mcleod Road, Building 447, Patuxent River, MD 20670-1626.

Contesting record procedures:

The Navy's rules for accessing records, and for contesting contents and appealing initial agency determinations are published in Secretary of the Navy Instruction 5211.5; 32 CFR part 701; or may be obtained from the system manager.

Record source categories:

Aircraft reporting custodian, Navy and Marine Corps pilots and enlisted aircrew members.

Exemptions claimed for the system:

None.

N05801-1

System name:

JAG Management Information System (JAGMIS) (February 22, 1993, 58 FR 10770).

Changes:

* * * * *

Categories of individuals covered by the system:

Delete entry and replace with ‘Service members who are pending courts-martial, administrative separation proceedings, nonjudicial punishment proceedings, or who have sought advice or counseling or other representational services from a Trial Service Office, Naval Legal Service Office, Detachment, or Branch Office. Authorized military and civilian personnel and dependents who have sought legal assistance, advice or counseling or other representational services from Naval Legal Service Offices or Detachments and any command with a legal assistance office.’

Categories of records in the system:

Delete entry and replace with ‘(1) Legal Assistance Card Files: Legal assistance card files typically contain client identification information, e.g., name, address, duty station, telephone numbers, etc., client description of legal problem, attorney classification of problem, and attorney time expended.

(2) Judge Advocate General Management Information System (JAGMIS): JAGMIS records contain identification information about the individual being courts-martialed such as name; rank/rate; Social Security Number; organizational information, such as Convening Authority and Supervisory Authority; information relevant to internal management of the Trial Service Office or Legal Service Office, such as dates of receipt, docketing, trial, and transcript completion; identities of counsel and military judge; information on the charges of which convicted, if any, sentence adjudged; and other information describing overall case management and processing. This information may also be entered into the JAGMIS system by the office rendering service.

(3) Legal Assistance, Personnel Claims, and Personal Representation Client Records: File contains I.D. information about the individual seeking legal advice such as name, address, duty station, telephone number, type of assistance requested, results of any hearing involved, and attorney time expended.’

* * * * *

Purpose(s):

Delete entry and replace with ‘To process courts-martials and render legal assistance and advice to naval personnel and their dependents. Trial Service Offices, Naval Legal Service Offices, and legal assistance offices will use the data for internal management purposes, such as court scheduling and counsel assignment information, and generating monthly workload productivity and statistical reports.’

* * * * *

Retrievability:

Delete entry and replace with ‘Name of client or accused, or by assigned case number.’

* * * * *

System manager(s) and address:

Delete entry and replace with ‘Assistant Judge Advocate General (Civil Law), Office of the Judge Advocate General, Department of the Navy, Washington Navy Yard, 1322 Patterson Avenue SE, Suite 3000, Washington, DC 20374-5066 for legal assistance files and Deputy Assistant Judge Advocate General, Management and Plans Division, Washington Navy Yard, 1322 Patterson Avenue SE, Suite 3000, Washington, DC 20374-5066 for case files.’

* * * * *

Record source categories:

Delete entry and replace with ‘Basic information contained in the legal assistance records file is provided by the client. Basic information contained in the courts-martial files is provided by the Convening Authority for the courts-martial, the attorneys and military judge assigned to the case, and administrative personnel assigned to the Trial Service Office or Naval Legal Service Office. Information regarding personal representation services is provided by the client, by the commanding officer of the individual being processed, and by administrative personnel of the Trial Service Office or Naval Legal Service Office. Information regarding the ultimate disposition of the matter is provided by the attorney rendering the service.’

N05801-1

System name:

JAG Management Information System (JAGMIS).

System location:

Naval Legal Service Command, 1322 Patterson Avenue SE, Suite 3000, Washington DC 20374-5066; Trial Service Offices and detachments; Naval Legal Service Offices and detachments; and any other Naval Legal Office providing legal assistance services. Official mailing addresses are published as an appendix to the Navy's compilation of system of record notices.

Categories of individuals covered by the system:

Service members who are pending courts-martial, administrative separation proceedings, nonjudicial punishment proceedings, or who have sought advice or counseling or other representational services from a Naval Legal Service Office, Detachment, or Branch Office. Authorized military and civilian personnel and dependents who have sought legal assistance, advice or counseling or other representational services from Naval Legal Service Offices or Detachments and any command with a legal assistance office.

Categories of records in the system:

(1) Legal Assistance Card Files: Legal assistance card files typically contain client identification information, e.g., name, address, duty station, telephone numbers, etc., client description of legal problem, attorney classification of problem, and attorney time expended.

(2) Judge Advocate General Management Information System (JAGMIS): JAGMIS records contain identification information about the individual being courts-martialed such as name; rank/rate; Social Security Number; organizational information, such as Convening Authority and Supervisory Authority; information relevant to internal management of the Trial Service Office or Legal Service Office, such as dates of receipt, docketing, trial, and transcript completion; identities of counsel and military judge; information on the charges of which convicted, if any, sentence adjudged; and other information describing overall case management and processing. This information may also be entered into the JAGMIS system by the office rendering service.

(3) Legal Assistance, Personnel Claims, and Personal Representation Client Records: File contains I.D. information about the individual seeking legal advice such as name, address, duty station, telephone number, type of assistance requested, results of any hearing involved, and attorney time expended.

Authority for maintenance of the system:

5 U.S.C. 301, Departmental Regulations; Manual of the Judge Advocate General; and E.O. 9397 (SSN).

Purpose(s):

To process courts-martials and render legal assistance and advice to naval personnel and their dependents. Naval Legal Service Offices and legal assistance offices will use the data for internal management purposes, such as court scheduling and counsel assignment information, and generating monthly workload productivity and statistical reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the Navy's compilation of system of record notices apply to this system.

Policies and practices for storing, retrieving, accessing, retaining, and disposing of records in the system:

Storage:

Military justice, legal assistance, and personal representation case files are stored in file cabinets. Case data is entered into the JAGMIS computer system which is maintained on computer hard disks.

Retrievability:

Name of client or accused, or by assigned case number.

Safeguards:

Manual records/cards are maintained in file cabinets or other storage devices under the control of authorized personnel during working hours; the office space in which the file cabinets and storage devices are located is locked outside of official working hours. Information in the JAGMIS system is stored on computer hard disks which are afforded the same physical protection afforded to manual records/cards. Additionally, computers containing JAGMIS information are protected by individual operator passwords to preclude access by unauthorized personnel.

Retention and disposal:

Manual records, cards, and case files are retained for two years after completion of the case, then destroyed. JAGMIS records, maintained since July 1985, are retained indefinitely.

System manager(s) and address:

Assistant Judge Advocate General (Civil Law), Office of the Judge Advocate General, Department of the Navy, Washington Navy Yard, 1322 Patterson Avenue SE, Suite 3000, Washington, DC 20374-5066 for legal assistance files and Deputy Assistant Judge Advocate General, Management and Plans Division, Washington Navy Yard, 1322 Patterson Avenue SE, Suite 3000, Washington, DC 20374-5066 for case files.

Notification procedure:

Individuals seeking to determine whether this system of records contains information about themselves should address written inquiries to the Assistant Judge Advocate General (Civil Law), Office of the Judge Advocate General, Department of the Navy, Washington Navy Yard, 1322 Patterson Avenue SE, Suite 3000, Washington, DC 20374-5066, for case files.

The written request should include full name and must be signed by the requesting individual.

Record access procedures:

Individuals seeking access to records about themselves contained in this system of records should address written inquiries to Assistant Judge Advocate General (Civil Law), Office of the Judge Advocate General, Department of the Navy, Washington Navy Yard, 1322 Patterson Avenue SE, Suite 3000, Washington, DC 20374-5066, for case files.

The written request should include full name and must be signed by the requesting individual.

Contesting record procedures:

The Navy's rules for accessing records, and for contesting contents and appealing initial agency determinations are published in Secretary of the Navy Instruction 5211.5; 32 CFR part 701; or may be obtained from the system manager.

Record source categories:

Basic information contained in the legal assistance records file is provided by the client. Basic information contained in the courts-martial files is provided by the Convening Authority for the courts-martial, the attorneys and military judge assigned to the case, and administrative personnel assigned to the Trial Service Office or Naval Legal Service Office. Information regarding personal representation services is provided by the client, by the commanding officer of the individual being processed, and by administrative personnel of the Trial Service Office or Naval Legal Service Office. Information regarding the ultimate disposition of the matter is provided by the attorney rendering the service.

Exemptions claimed for the system:

None.

N12950-7

System name:

Drug-Free Workplace Records (July 29, 1994, 59 FR 38589).

Changes:

System identifier:

Delete entry and replace with ‘N12792-7’.

System name:

After the word ‘Workplace’ add ‘Program’.

System location:

Delete entry and replace with ‘Records are located at the local naval activity, the local servicing human resources offices or the Department of the Navy Headquarters office.’

* * * * *

Purpose(s):

In paragraph 2, line 2, delete ‘employee’s Medical Review Official' and replace with ‘Medical Review Officer’.

* * * * *

Record source categories:

Delete entry and replace with ‘Records are obtained from the individual to whom the record pertains; DON or contractor employees involved in the selection, notification, and collection of urine from individuals who are tested; DON or contractor laboratories that test urine samples for the presence of illegal drugs, DON or contractor Medical Review Officers; supervisors and managers and other DON officials engaged in administering the Drug-Free Workplace Program; the Civilian Employee Assistance Program; processing adverse actions based on drug test results; and DON or contractor electronic databases.’

* * * * *

N12792-7

System name:

Drug-Free Workplace Program Records.

System location:

Records are located at the local naval activity, the local servicing human resources offices or the Department of the Navy Headquarters office.

Categories of individuals covered by the system:

Civilian employees and applicants for employment with the Department of the Navy.

Categories of records in the system:

Records related to selection, notification, testing of employees and applicants, urine specimens, drug test results, collection authentication and chain of custody documents.

Authority for maintenance of the system:

Pub. L. 100-71, 5 U.S.C. 7301; 21 U.S.C. 812; and E.O. 12564, Drug-Free Federal Workplace; and E.O. 9397 (SSN).

Purpose(s):

The system is established to maintain records relating to the selection and testing of Department of the Navy employees, and applicants for employment, for use of illegal drugs and drugs identified in Schedules I and II of 21 U.S.C. 812.

The records are also used by the Medical Review Officer; the administrator of any Employee Assistance Program in which the employee is receiving counseling or treatment or is otherwise participating; and supervisory or management officials within the employee's agency having authority to take adverse personnel action against such employee.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

In order to comply with the provisions of 5 U.S.C. 7301, the ‘Blanket Routine Uses’ published at the beginning of the Navy's compilation do not apply to this system.

To a court of competent jurisdiction where required by the United States Government to defend against any challenge against any adverse personnel action.

Note: Record of the identity, diagnosis, prognosis, or treatment of any client/patient, irrespective of whether or when he ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. The results of a drug test of civilian employees may be disclosed only as expressly authorized under 5 U.S.C. 7301. These statutes takes precedence over the Privacy Act of 1974, in regard to accessibility of such records except to the individual to whom the record pertains. The Navy's ‘Blanket Routine Uses’ do not apply to these types records.

Policies and practices for storing, retrieving, accessing, retaining, and disposing of records in the system:

Storage:

Records consist of written materials and/or electronic media.

Retrievability:

Records are retrieved by name of employee, applicant for employment, Social Security Number, I.D. number assigned, or any combination of these.

Safeguards:

Records will be stored in secure containers, e.g., safes, locked filing cabinets, etc. Urine specimens will be stored in appropriate locked storage facilities. Access to such records and specimens is restricted. Chain-of-custody and other procedural and documentary requirements of Pub. L. 100-71 and the Department of Health and Human Services Guidelines will be followed in collection of urine samples, conducting drug tests, and processing test results. All information contained in computers is password protected.

Retention and disposal:

Records are retained for three years and then destroyed by shredding, burning, or erasure in the case of electronic media.

Written records and test results together with urine specimens shall be retained until litigation is complete when the employee challenges or appeals adverse actions.

System manager(s) and address:

DON Drug Program Coordinator, Deputy Assistant Secretary of the Navy (Civilian Personnel/Equal Employment Opportunity, 800 North Quincy Street, Arlington, VA 22203-1998.

Notification procedure:

Individuals seeking to determine whether this system contains information about themselves should address written inquiries to the Commanding Officer/Commander of the DON activity or the servicing human resources office at which they are or were employed, or at which they made application for employment, and for which they provided a urine specimen for drug testing.

Individuals may furnish their full name, Social Security Number, the title, series, and grade of the position they occupied or applied for when the drug test was conducted, specimen ID number, and the date of the test.

Record access procedures:

Individuals seeking access to information about themselves contained in this system of records should address written inquiries to the Commanding Officer/Commander of the DON activity or the servicing human resources office at which they are or were employed, or at which they made application for employment, and for which they provided a urine specimen for drug testing.

Individuals may furnish their full name, Social Security Number, the title, series, and grade of the position they occupied or applied for when the drug test was conducted, specimen ID number, and the date of the test.

Contesting record procedures:

The Navy's rules for accessing records, and for contesting contents and appealing initial agency determinations are published in Secretary of the Navy Instruction 5211.5; 32 CFR part 701; or may be obtained from the system manager.

Record source categories:

Records are obtained from the individual to whom the record pertains; DON or contractor employees involved in the selection, notification, and collection of urine from individuals who are tested; DON or contractor laboratories that test urine samples for the presence of illegal drugs, DON or contractor Medical Review Officers; supervisors and managers and other DON officials engaged in administering the Drug-Free Workplace Program; the Civilian Employee Assistance Program; processing adverse actions based on drug test results; and DON or contractor electronic databases.

Exemptions claimed for the system:

None.

[FR Doc. 00-2817 Filed 2-7-00; 8:45 am]

BILLING CODE 5001-10-F